DEPARTMENT OF DEFENSE

Office of the Secretary

[Docket ID: DoD-2013-OS-0229]

Submission for OMB Review; Comment Request

ACTION: Notice.

SUMMARY: The Department of Defense has submitted to OMB for clearance, the following proposal for collection of information under the provisions of the Paperwork Reduction Act (44 U.S.C. Chapter 35).

DATES: Consideration will be given to all comments received by July 23, 2014.

FOR FURTHER INFORMATION CONTACT: Fred Licari, 571-372-0493.

SUPPLEMENTARY INFORMATION:

Title, Associated Form and OMB Number: Exceptional Family Member Program, DD Form 2792, Family Member Medical Summary, and DD Form 2792-1, Special Education/Early Intervention Summary. OMB Control Number: 0704-0411.

Type of Request: Revision.

Number of Respondents: 44,555.

Responses per Respondent: 1.

Annual Responses: 44,555.

Average Burden per Response: 27 minutes.

Annual Burden Hours: 20,050.

Needs And Uses: This information collection requirement is necessary to screen members of military families to determine if they have special medical (DD Form 2792) and/or educational (DD Form 2792-1) conditions so that these conditions can be taken into consideration when the Service member is being assigned to a new location with his/her family. The information is used by the personnel system to identify special considerations for future assignments. Local and state school and early intervention personnel complete DD Form 2792-1 for children requiring special educational services. The DD Form 2792 and DD Form 2792-1 are also used by TRICARE Managed Care Support Contractors to support a family member's application for further entitlements, and other Service-specific programs that require registration in the Exceptional Family Member Program. The DD Form 2792 and DD Form 2792-1 associated with this information collection, may be voluntarily submitted by a perspective civilian employee to the civilian personnel office to identify family members who have special needs in order to advise the civilian employee of the availability of services in the location where they will be potentially employed. The DD Form 2792-1 must be completed if the civilian employee intends to enroll his or her child in a school funded by the DoD.

Affected Public: Individuals or households; State and local education personnel.

Frequency: On occasion.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: June 18, 2014.
Aaron Siegel,
Alternate OSD Federal Register Liaison Officer, Department of Defense.

[FR Doc. 2014-14564 Filed 6-20-14; 8:45 am]

BILLING CODE 5001-06-P